DEPARTMENT OF DEFENSE

Office of the Secretary

Vietnam War Commemoration Advisory Committee; Notice of Federal Advisory Committee Meeting

AGENCY: Department of Defense (DoD).

ACTION: Meeting notice.

SUMMARY: The Department of Defense is publishing this notice to announce the following Federal advisory committee meeting of the Vietnam War Commemoration Advisory Committee. This meeting is open to the public.

DATES: The public meeting of the Vietnam War Commemoration Advisory Committee (hereafter referred to as “the Committee”) will be held on Tuesday, March 7, 2017. The meeting will begin at 1:30 p.m. and end at 3:30 p.m.

ADDRESSES: 241 18th Street South, Room 101, Arlington, VA 22202.

FOR FURTHER INFORMATION CONTACT: Committee's Designated Federal Officer: The committee's Designated Federal Officer is Mrs. Marcia Moore, Vietnam War Commemoration Advisory Committee, 241 18th Street South, Arlington, VA 22202, marcia.l.moore12.civ@mail.mil, 703-571-2005. For meeting information please contact Mrs. Moore or Mr. Mark Franklin, mark.r.franklin.civ@mail.mil, 703-697-4849; or Ms. Scherry Chewning, scherry.l.chewning.civ@mail.mil, 703-697-4908.

SUPPLEMENTARY INFORMATION: This meeting is being held under the provisions of the Federal Advisory Committee Act of 1972 (5 U.S.C., Appendix, as amended), the Government in the Sunshine Act of 1976 (5 U.S.C. 552b, as amended), and 41 CFR 102-3.150.

Purpose of the Meeting: The Committee will convene and receive an introduction to the Conceptual Plan for the Vietnam War 50th Commemoration's 2018-2025 activities. Later this fiscal year, the Committee will provide advice to the DoD on what resources and thematic events should be offered to over 10,000 Commemorative Partners to honor Vietnam War Veterans over the next seven years.

Availability of Materials for the Meeting: A copy of the agenda and handouts for this meeting may be obtained from the Committee's Web site at http://vietnamwar50th.com. Copies will also be available at the meeting.

Public's Accessibility to the Meeting: Pursuant to 5 U.S.C. 552b and 41 CFR 102-3.140 through 102-3.165, and the availability of space, this meeting is open to the public. All members of the public who wish to attend the public meeting must contact Mrs. Marcia Moore, Mr. Mark Franklin, or Ms. Scherry Chewning at the number listed in the FOR FURTHER INFORMATION CONTACT section by February 28, 2017.

Special Accommodations: Individuals requiring special accommodations to access the public meeting should contact Mrs. Marcia Moore, Mr. Mark Franklin or Ms. Scherry Chewning at the number listed in the FOR FURTHER INFORMATION CONTACT section by February 28, 2017 so that appropriate arrangements can be made.

Procedures for Providing Public Comments

Pursuant to 41 CFR 102-3.105(j) and 102-3.140, and section 10(a)(3) of the Federal Advisory Committee Act of 1972, the public or interested organizations may submit written comments to the Committee about its mission and topics pertaining to this public meeting.

Written comments should be received by the DFO by February 28, 2017. Written comments should be submitted via email to the address for the DFO given in the FOR FURTHER INFORMATION CONTACT section in either Adobe Acrobat or Microsoft Word format. Please note that since the Committee operates under the provisions of the Federal Advisory Committee Act, as amended, all submitted comments and public presentations will be treated as public documents and will be made available for public inspection, including, but not limited to, being posted on the Committee's Web site.

Dated: February 9, 2017.
Aaron Siegel,
Alternate OSD Federal Register Liaison Officer, Department of Defense.

[FR Doc. 2017-03001 Filed 2-14-17; 8:45 am]

BILLING CODE 5001-06-P